DEPARTMENT OF COMMERCE

National Oceanic and Atmospheric Administration

Proposed Information Collection; Comment Request; Coastal Zone Management Act External Review

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 10, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information should be directed to Patmarie Nedelka, (301) 713-3155 ext. 127 or Patmarie.Nedelka@noaa.gov.

SUPPLEMENTARY INFORMATION:

I. Abstract

As part of its continuing efforts to monitor and improve performance of programs authorized by the Coastal Zone Management Act of 1972, as amended (CZMA) NOAA has contracted for an independent external review of CZMA programs. As part of this review, the contractor will conduct telephone interviews with representatives from Federal, State, local and non-governmental organizations that work for or with State Coastal Zone Management Programs or National Estuarine Research Reserves.

II. Method of Collection

Respondents will be contacted by telephone.

III. Data

OMB Control Number: None.

Form Number: None.

Type of Review: Regular submission.

Affected Public: State, Local, or Tribal Government; not-for-profit institutions.

Estimated Number of Respondents: 100.

Estimated Time per Response: Telephone interviews, 2 hours.

Estimated Total Annual Burden Hours: 160.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 4, 2009.
Gwellnar Banks,
Management Analyst, Office of the Chief Information Officer.

[FR Doc. E9-13485 Filed 6-8-09; 8:45 am]

BILLING CODE 3510-08-P